DEPARTMENT OF ENERGY

Federal Energy Regulatory Commission

[Docket Nos. EC05-21-000, et al.]

Reliant Energy Wholesale Generation, LLC, et al. Electric Rate and Corporate Filings

August 29, 2005.

The following filings have been made with the Commission. The filings are listed in ascending order within each docket classification.

1. Reliant Energy Wholesale Generation, LLC

[Docket No. EC05-21-000]

Take notice that on August 25, 2005, Reliant Energy Wholesale Generation, LLC tendered for filing a withdrawal of the application filed November 23, 2004 in Docket No. EC05-21-000.

Comment Date: 5 p.m. eastern time on September 15, 2005.

2. United States Department of Energy and Western Area Power Administration

[Docket No. EF05-5161-000]

Take notice that on August 17, 2005, the Deputy Secretary of the Department of Energy, confirmed and approved Rate Order No. WAPA-119 and Rate Schedule SNF-6, placing a non-firm power formula rate from the Stampede Powerplant of the Washoe Project of the Western Area Power Administration into effect on an interim basis. Rate Schedule SNF-6 will be placed into effect on an interim basis on the first day of the first full billing period beginning on or after October 1, 2005, and will be in effect until the Commission confirms, approves, and places the rate schedule in effect on a final basis through September 30, 2010, or until the rate schedule is superseded.

Comment Date: 5 p.m. eastern time on September 7, 2005.

3. Larswind, LLC

[Docket No. EG05-99-000]

Take notice that on August 24, 2005, Larswind, LLC (Larswind) filed with the Commission an application for determination of exempt wholesale generator status pursuant to part 365 of the Commission regulations.

Comment Date: 5 p.m. eastern time on September 14, 2005.

4. Wisconsin Public Service Corporation v. Midwest Independent transmission System Operator, Inc.

[Docket Nos. EL03-40-004 and EL05-51-004]

Take notice that on August 22, 2005, the Midwest Independent Transmission System Operator, Inc. (Midwest ISO) submitted a compliance filing pursuant to the Commission's Order issued July 22, 2005, 112 FERC ¶ 61,093 (2005).

Comment Date: 5 p.m. eastern time on September 12, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4837 Filed 9-2-05; 8:45 am]

BILLING CODE 6717-01-P